DEPARTMENT OF HEALTH AND HUMAN SERVICES

National Institutes of Health

National Institute of Diabetes and Digestive and Kidney Diseases; Cancellation of Meeting

Notice is hereby given of the cancellation of the National Institute of Diabetes and Digestive and Kidney Diseases Special Emphasis Panel, July 31, 2000, 11 a.m. to July 31, 2000, 12 p.m., 6707 Democracy Blvd, 2 Democracy Plaza, Rm 653, Bethesda, MD 20892 which was published in the Federal Register on July 13, 2000, 65 FR 43379.

The meeting is cancelled due to application being withdrawn.

Dated: July 24, 2000.
LaVerne Y. Stringfield,
Director, Office of Federal Advisory Committee Policy.

[FR Doc. 00-19638 Filed 8-2-00; 8:45 am]

BILLING CODE 4140-01-M